DEPARTMENT OF THE INTERIOR

Minerals Management Service

Preparation of an Environmental Assessment for Vastar Resources Inc.'s Proposed Deepwater Development Plan Offshore Louisiana (Horn Mountain Project)

AGENCY: Minerals Management Service, Interior.

ACTION: Preparation of an environmental assessment.

SUMMARY: The Minerals Management Service (MMS) is preparing an environmental assessment (EA) for a proposed deepwater development plan to develop and produce hydrocarbon reserves about 60 miles offshore Louisiana in Mississippi Canyon, Blocks 126 and 127.

This EA implements the tiering process outlined in 40 CFR 1502.20, which encourages agencies to tier environmental documents, eliminating repetitive discussions of the same issue. By use of tiering from the most recent Final Environmental Impact Statement (EIS) for the Gulf of Mexico Central Planning Area for Lease Sales 169, 172, 175, 178, and 182 and by referencing related environmental documents, this EA concentrates on environmental issues specific to the proposed action.

FOR FURTHER INFORMATION CONTACT: Minerals Management Service, Gulf of Mexico OCS Region, 1201 Elmwood Park Boulevard, New Orleans, Louisiana 70123-2394, Mr. G. Ed Richardson, telephone (504) 736-2605.

SUPPLEMENTARY INFORMATION: The MMS GOM Region received an Initial Development Operations Coordination Document (DOCD) from Vastar Resources Inc. (Vastar) that proposes to develop and produce hydrocarbon reserves located in Mississippi Canyon, Blocks 126 and 127. The DOCD was assigned a plan control number of N-7195 and the project is referred to as the Horn Mountain Project. Vastar will drill, complete, and produce a total of 10 wells in the subject blocks. All of the wells will share a common surface location (a truss spar floating production system) in Mississippi Canyon, Block 127.

The Horn Mountain truss spar is a manned floating production facility that will be permanently anchored on location by a 9-leg, taut catenary system composed of conventional wire, chain, and anchor piles. The hull portion of the spar measures approximately 106 feet in diameter and has an overall length of 555 feet. During the proposed operations, approximately 35-50 personnel may be engaged in designated activities.

The water depth at the truss spar location is approximately 5,423 feet. The project will use an existing onshore support base in Venice, Louisiana, to support the proposed activities.

Oil and gas produced at the Horn Mountain project will be transported off lease by right-of-way pipelines. These pipelines will connect with existing offshore infrastructure for final transport to shore.

The proposed action analyzed in the EA will be the development plan as proposed by Vastar. Alternatives will include the proposed action with additional mitigations and no action (i.e., disapproval of the plan). The analyses in the EA will examine the potential environmental effects of the proposal and alternatives.

Public Comments

The MMS requests interested parties to submit comments regarding issues that should be addressed in the EA to Minerals Management Service, Gulf of Mexico OCS Region, Office of Leasing and Environment, Attention: Regional Supervisor (MS 5410), 1201 Elmwood Park Boulevard, New Orleans, Louisiana 70123-2394. Comments must be submitted no later than 30 days from the publication of this Notice.

Dated: September 28, 2001.
Chris C. Oynes,
Regional Director, Gulf of Mexico OCS Region.

[FR Doc. 01-27104 Filed 10-26-01; 8:45 am]

BILLING CODE 4310-MR-P